DEPARTMENT OF THE INTERIOR

Fish and Wildlife Service

Pocosin Lakes National Wildlife Refuge

ACTION: Notice of Application for a Natural Gas Pipeline Right-of-Way on Pocosin Lakes National Wildlife Refuge, Tyrrell County, North Carolina.

SUMMARY: Notice is hereby given that under Section 28 of the Mineral Leasing Act of 1920 (41 Stat. 449: 30 U.S.C. 185), as amended by Public Law 93-153, the Eastern North Carolina Natural Gas Company has applied for a permit to construct an 8-inch natural gas Pipeline in a 35 foot wide right-of-way which will run approximately 2100 feet or 0.4 of a mile. The requested right-of-way contains approximately 1.70 acres for actual pipeline and (2100′ x 35′), and 0.07 acre for the valve site (20′ x 162′), for a total right-of-way of 1.77 acres.

This pipeline right-of-way will be on, under, and across a strip of land lying in the Township of Columbia, Tyrrell County, State of North Carolina.

The purpose of this notice is to inform the public that the Fish and Wildlife Service is currently considering the merits of approving this application.

DATES: Interested persons desiring to comment on this application should do so within thirty (30) days following the date of publication of this notice.

ADDRESSES: Comments or requests for additional information should be addressed to Ms. Jackie Cumpton, Refuges and Wildlife (Realty), Fish and Wildlife Service, 1875 Century Boulevard, Suite 420, Atlanta, Georgia 30345, telephone 404-679-7160; fax 404-679-7273.

If you wish to comment, you may do so by one of the following methods. You may mail comments to the above address. You may also comment via the Internet at the following address: Jackie_cumpton@fws.gov. Please include your name and return address in your Internet message. If you do not receive a confirmation from the system that we have received your Internet message, contact us at the above phone number or address. Our practice is to make comments, including names and addresses of respondents, available for public review during regular business hours. Individual respondents may request that we withhold their home address from the record, which we will honor to the extent allowable by law.

The Fish and Wildlife Service is the principal federal agency responsible for conserving, protecting, and enhancing fish, wildlife, and plants and their habitats for the continuing benefit of the American people.

Dated: August 25, 2004.
Sam D. Hamilton,
Regional Director.

[FR Doc. 04-21924 Filed 9-29-04; 8:45 am]

BILLING CODE 4310-55-M